DEPARTMENT OF THE INTERIOR

Bureau of Land Management

[LLNM931000 L51010000.PQ0000 LVRWG22G0690 22XL5017AP]

Notice of Availability of the Proposed Resource Management Plan Amendment and Final Environmental Impact Statement for the SunZia Southwest Transmission Project Right-of-Way Amendment, New Mexico and Arizona

AGENCY: Bureau of Land Management, Interior.

ACTION: Notice of availability.

SUMMARY: In compliance with the National Environmental Policy Act of 1969, as amended (NEPA), and the Federal Land Policy and Management Act of 1976, as amended (FLMPA), the Bureau of Land Management (BLM) has prepared a Proposed Resource Management Plan (RMP) Amendment and Final Environmental Impact Statement (EIS) for the SunZia Southwest Transmission Project Right-of-Way Amendment and by this notice is announcing the start of a 30-day protest period of the Proposed RMP Amendment.

DATES: This notice announces the beginning of a 30-day protest period to the BLM on the Proposed RMP Amendment. Protests must be postmarked or electronically submitted on the BLM's ePlanning site within 30 days of the date that the Environmental Protection Agency (EPA) publishes its Notice of Availability (NOA) in the Federal Register. The EPA usually publishes its NOAs on Fridays.

ADDRESSES: The Proposed RMP Amendment and Final EIS is available on the BLM ePlanning project website at http://ow.ly/HEkm50MxXbG. Documents pertinent to this proposal may be examined online at http://ow.ly/HEkm50MxXbG and at the BLM New Mexico State Office, the BLM Arizona State Office, the BLM Las Cruces District Office, the BLM Socorro Field Office, the Safford BLM Field Office, the BLM Tucson Field Office, the Cibola National Forest Supervisor's Office, and the Sevilleta National Wildlife Refuge.

Instructions for filing a protest with the BLM for the SunZia Southwest Transmission Project Right-of-Way Amendment can be found at: https://www.blm.gov/programs/planning-and-nepa/public-participation/filing-a-plan-protest and at 43 CFR 1610.5-2.

FOR FURTHER INFORMATION CONTACT: Adrian Garcia, Project Manager, (505) 954-2199, agarcia@blm.gov; or Virginia Alguire, Assistant Field Manager, (575) 838-1290, valguire@blm.gov; 301 Dinosaur Trail, Santa Fe, New Mexico 87508. Individuals in the United States who are deaf, deafblind, hard of hearing, or have a speech disability may dial 711 (TTY, TDD, or TeleBraille) to access telecommunications relay services for contacting Mr. Garcia. Individuals outside the United States should use the relay services offered within their country to make international calls to the point-of-contact in the United States.

SUPPLEMENTARY INFORMATION: The RMP amendment is being considered to allow the BLM to evaluate SunZia Transmission, LLC's application to amend its right-of-way grant for the SunZia Southwest Transmission Project (Project), which would require amending the existing Socorro Field Office RMP.

The proposed SunZia Southwest Transmission Project is composed of two planned 500-kilovolt transmission lines located across approximately 520 miles of Federal, state, and private lands between central New Mexico and central Arizona. The Project traverses Lincoln, Socorro, Sierra, Luna, Grant, Hidalgo, Valencia, and Torrance counties in New Mexico and Graham, Greenlee, Cochise, Pinal, and Pima counties in Arizona.

The proposed alternatives would not be in conformance with the Socorro RMP due to one of the following conditions: the right-of-way would cross an area designated in the RMP as right-of-way avoidance or exclusion, the right-of-way would cross a special designation, or the project would not comply with Visual Resource Management objectives. Plan amendments would be required for alternatives where no conforming alternatives could be developed that would meet the purpose and need of the project.

In addition to the alternative transmission line routes, two plan amendment alternatives have been identified for each of the affected RMPs, as follows:

• No Action: If no action is taken, then the right-of-way for the project would not be granted and no amendment to the affected RMP would be granted.

• 400-foot-wide right-of-way: The affected RMP would be amended to designate a 400-foot-wide right-of-way for the proposed project through the BLM right-of-way avoidance areas and one exclusion area associated with an Area of Critical Environmental Concern. The Visual Resource Management classes would be modified within the right-of-way. The Ladron Mountain-Devil's Backbone Complex Area of Critical Environmental Concern could be reduced by up to 4.7 acres to accommodate the right-of-way.

Minor deviations from the limits of the right-of-way may be required to accommodate site-specific considerations, and any new rights-of-way would be subject to case-by-case evaluations according to future project applications.

Purpose and Need for the Proposed Action

The BLM's purpose and need for Federal action is to respond to SunZia's application to amend its right-of-way grant (NM 114438) under title V of FLPMA consistent with applicable laws. In compliance with NEPA and FLPMA, the BLM New Mexico State Office has prepared an EIS to analyze the environmental impacts associated with SunZia's application. Proposed amendments to SunZia's right-of-way grant would require an amendment to the Socorro Field Office RMP, which the BLM has analyzed in the Final EIS. The U.S. Fish and Wildlife Service's purpose and need for Federal action is to respond to requests to co-locate the SunZia transmission line with existing transmission line easements across the Sevilleta National Wildlife Refuge. The U.S. Forest Service's purpose and need for Federal action is to respond to SunZia's application for a right-of-way to construct, operate, maintain, and decommission a transmission line on Federal lands. The Department of Energy's purpose and need for Federal action is to comply with its mandate under Title XVII of the Energy Policy Act of 2005 by selecting projects eligible for the Federal loan guarantee program established by the Act.

Proposed Action and Alternatives

The proposed action is for the BLM to amend the current right-of-way authorization to include proposed project components outside of the existing granted right-of-way for the construction, operation, maintenance, and decommissioning of the Project. The U.S. Fish and Wildlife Service and Cibola National Forest may need to issue new authorizations, depending on the alternatives under proposed Component 3, which includes a proposed, approximately 150-mile reroute of the 2015 Selected Route in Socorro, Valencia, and Torrance Counties, New Mexico. The permitted route originates at a planned substation in Torrance County, New Mexico, and terminates at the existing Pinal Central Substation in Pinal County, Arizona. The Project traverses Lincoln, Socorro, Sierra, Luna, Grant, Hidalgo, Valencia, and Torrance counties in New Mexico and Graham, Greenlee, Cochise, Pinal, and Pima counties in Arizona. The route has four segments:

• Segment 1: Pinal Central Substation to Willow 500-kilovolt Substation;

• Segment 2: Willow 500-kilovolt Substation to SunZia South Substation (Segment 2a in Arizona, Segment 2b in New Mexico);

• Segment 3: SunZia South Substation to New Mexico Institute of Mining and Technology; and

• Segment 4: New Mexico Institute of Mining and Technology to SunZia East Substation.

Prior environmental documents include a Final EIS in 2013, a subsequent Environmental Assessment and Finding of No New Significant Impact in 2015 to accommodate burial of approximately five miles of the transmission line in three locations within the White Sands Missile Range Northern Call-Up Area, and a Record of Decision in 2015. The BLM issued a right-of-way grant to SunZia in 2016, authorizing use of a 400-foot-wide right-of-way across 183 miles of public lands administered by the BLM. Construction of the lines has not begun.

SunZia is proposing to amend the existing grant in four components:

• Component 1—Localized Route Modifications: Consists of proposed modifications of the 2015 Selected Route in six localized areas in Segments 1, 2, and 3 in Pinal County, Arizona and Hidalgo, Luna, Sierra, and Socorro Counties, New Mexico. After the right-of-way grant was issued in September 2016, and pursuant to the requirements in the BLM's 2015 Record of Decision, subsequent ground-controlled surveys and engineering were conducted in conjunction with environmental resource surveys to refine locations of project facilities and refine the limits of the transmission line right-of-way alignment. Route Modifications 1-5 are located on public lands administered by the BLM and are proposed due to inability to obtain private rights-of-way or easements, changes in land use, or physical constraints. Route Modification 6 includes route modifications on private and state lands.

• Component 2—Access Roads and Temporary Work Areas Outside the Granted Right-of-Way: Includes access roads that are on public lands administered by the BLM outside the existing 400-foot-wide granted right-of way. Access roads for construction, operation, and maintenance of the transmission lines were planned within the 400-foot-wide right-of-way as much as practicable. However, access to the right-of-way, constraints due to steep or rugged terrain, and avoidance of sensitive resources may necessitate the use of roads outside the 400-foot-wide granted right-of-way. In Segments 1, 2, and 3, temporary work areas, or portions of, are outside the 400-foot-wide granted right-of-way for the 2015 Selected Route, requiring short-term rights-of-way for temporary use. Temporary work areas include structure work areas, construction yards, and wire pulling/tensioning/splicing areas.

• Component 3—Segment 4 Reroute: SunZia has opted to pursue potential alternative routes that would relocate the Project's proposed transmission line and associated facilities outside the White Sands Missile Range Northern Call-Up Area, take advantage of an opportunity to partially parallel the Western Spirit 345-kilovolt Transmission Project, and move the eastern substation closer to proposed wind-generation projects. SunZia is considering three alternative routes.

The three alternative routes are:

○ Alternative Route 1: Crosses public lands administered by the BLM, Cibola National Forest lands managed by the U.S. Forest Service, and private and state managed lands. All Alternative Route 1 sub routes would cross 0.1 mile of the Ladron Mountain-Devil's Backbone Complex Area of Critical Environmental Concern using Local Alternative 1A-7.

○ Alternative Route 2: Crosses public lands administered by the BLM, the Sevilleta National Wildlife Refuge managed by the U.S. Fish and Wildlife Service, and private and state managed lands. The Alternative would co-locate within existing transmission line corridors that pass north-south through National Wildlife Refuge System land. Where Alternative Route 2 would cross the Sevilleta National Wildlife Refuge, the easement width would be reduced to 100 feet to conform with the existing El Paso Electric 345-kilovolt transmission line easement. Alternative Routes 2A-1 and 2A-4 would cross the Rio Grande immediately to the south of the constructed Western Spirit Project 345-kilovolt transmission line.

○ Alternative Route 3: Alternative Route 3 would cross public lands administered by the BLM, the Sevilleta National Wildlife Refuge managed by the U.S Fish and Wildlife Service, and private and state managed lands. The alternative would co-locate within existing transmission line corridors that pass north-south through National Wildlife Refuge System land. Where Alternative Route 3 would cross the Sevilleta National Wildlife Refuge, the easement width would be reduced to 50 feet to conform with the existing Tri-State 115-kilovolt transmission line easement.

Both Alternatives 2 and 3 would be required for the Project. Additionally, the BLM has considered and analyzed additional route alternatives identified through public scoping, Title 41 of the Fixing America's Surface Transportation Act, and Nation-to-Nation consultation with Indian Tribes.

• Component 4—SunZia West Substation: SunZia also identified the need for a high voltage direct current converter station (SunZia West Substation) at a newly identified alternate location for the west-end receiving terminal in Arizona east of Red Rock. The revised location of the high voltage direct current converter station is needed because operation and interconnection capabilities for the west-end high voltage direct current receiving terminal could be better served at a dedicated and separate site. The southern portion of the current siting area (20-22 acres) for the SunZia West Substation overlaps with the permitted 400-foot-wide right-of-way and is located entirely on Arizona State Trust Land just east of Red Rock, Arizona. No Federal authorization is needed for the southern portion. Adjustment of the permitted right-of-way would be addressed with the State of Arizona. The total siting area is approximately 80.7 acres.

The BLM analyzed SunZia's proposed amendments and alternatives to the reroute of Segment 4 in the Final EIS. The BLM also considered a no action alternative in the Final EIS (i.e., the BLM and other Federal agencies would not approve the localized route modifications, access roads and temporary work areas outside the granted right-of-way, the Segment 4 reroute, and the new location for the SunZia West Substation).

Agency-Proposed Alternative

The BLM has identified parts of the four proposed Project components as the agency's Proposed Alternative. The agency's Proposed Alternative is as follows:

• Component 1: Localized route modifications 1-5, and the 2015 Selected Route (the no action alternative in the Final EIS) for local route modification 6 in the Pinal Central area;

• Component 2: All access roads and temporary workspaces outside the granted right-of-way;

• Component 3: Alternative Route 2 (Subroute 2A-1) and Alternative Route 3 (Subroute 3A-1), which include crossing the Sevilleta National Wildlife Refuge as well as co-locating the proposed SunZia Transmission Line with the Western Spirit 345-kilovolt Transmission Line at the Rio Grande crossing. For Subroute 3A-1, the agency Proposed Alternative includes Local Alternative 3B-2 to avoid two private residences near the Project; and

• Component 4: The 2015 Selected Alternative.

Public Input Received

A Notice of Availability of the Draft EIS for the proposed Project was published in the Federal Register on May 2, 2022 (87 FR 25653). Three virtual public meetings were held during the 90-day comment period. The BLM received 125 public comment documents during the comment period. The documents contained 609 individual comments with 36 substantive comments.

Comments on the Draft EIS received from the public and internal BLM review were considered and incorporated as appropriate into the Final EIS. Public comments resulted in the addition of clarifying text but did not significantly change proposed decisions.

Protest of the Proposed RMP Amendment

BLM planning regulations state that any person who participated in the preparation of the RMP and has an interest that will or might be adversely affected by approval of the Proposed RMP Amendment may protest its approval to the BLM. Protest on the Proposed RMP Amendment constitutes the final opportunity for administrative review of the proposed land use planning decisions prior to the BLM adopting an approved RMP Amendment. Instructions for filing a protest with the BLM regarding the Proposed RMP Amendment may be found online (see ADDRESSES). All protests must be in writing and mailed to the appropriate address or submitted electronically through the BLM ePlanning project website (see ADDRESSES). Protests submitted electronically by any means other than the ePlanning project website or by fax will be invalid unless a hard copy of the protest is also submitted. The BLM will render a written decision on each protest. The protest decision of the BLM shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP Amendment.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2; 43 CFR 1610.5.)

Melanie G. Barnes,
State Director.

[FR Doc. 2023-03299 Filed 2-16-23; 8:45 am]

BILLING CODE 4331-23-P